CORPORATION FOR NATIONAL AND COMMUNITY SERVICE

Submission for OMB Emergency Review

AGENCY: Corporation for National and Community Service.

ACTION: Notice.

SUMMARY: The Corporation for National and Community Service (hereinafter the “Corporation”), submitted the following information collection request (ICR) to the Office of Management and Budget (OMB) for review and clearance in accordance with the Paperwork Reduction Act of 1995, (PRA 95) (44 U.S.C. Chapter 35). The Corporation has requested OMB to review and approve its emergency request by February 1, 2005, for a period of six months. A copy of this ICR, with applicable supporting documentation, may be obtained by contacting the Corporation for National and Community Service, Office of Grants Policy and Operations, Marci Hunn, (202) 606-5000, Ext. 432, or by e-mail at mhunn@cns.gov. Individuals who use a telecommunications device for the deaf (TTY-TDD) may call (202) 565-2799 between 8:30 a.m. and 5 p.m. eastern time, Monday through Friday.

ADDRESSES: Comments may be submitted, identified by the title of the information collection activity, by any of the following two methods:

(1) By fax to: (202) 395-6974, Attention: Ms. Katherine Astrich, OMB Desk Officer for the Corporation for National and Community Service; and

(2) Electronically by e-mail to: Katherine_T._Astrich@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Description: The purpose of this grant competition is to engage persons with disabilities in national and community service programs. Through Congressional appropriations, this competition was established to fund innovative national or regional (operating in three or more states) partnership models in which persons with disabilities are engaged in service that results in a measurable impact on the community served. The Corporation encourages all eligible public and private non-profit organizations, including faith-based and other community-based organizations, to apply. This information collection contains application instructions to apply for funding under the Engaging Persons with Disabilities in National and Community Service competition.

Type of Review: Emergency request.

Agency: Corporation for National and Community Service.

Title: Engaging Persons with Disabilities in National and Community Service Application Instructions.

OMB Number: None.

Agency Number: None.

Affected Public: Eligible applicants to the Corporation for funding for disability programs.

Total Respondents: 40.

Frequency: On occasion.

Average Time Per Response: Ten (10) hours.

Estimated Total Burden Hours: 400 hours.

Total Burden Cost (capital/startup): None.

Total Burden Cost (operating/maintenance): None.

Dated: January 19, 2005.
Amy Mack,
Chief of Staff, Office of Chief Executive Officer.

[FR Doc. 05-1653 Filed 1-27-05; 8:45 am]

BILLING CODE 6050-$$-P